DEPARTMENT OF AGRICULTURE

Grain Inspection, Packers and Stockyards Administration

7 CFR Part 810

[Docket # GIPSA-2010-FGIS-0004]

RIN 0580-AB16

Request for Public Comment on the United States Standards for Corn

AGENCY: Grain Inspection, Packers and Stockyards Administration, USDA.

ACTION: Advance notice of proposed rulemaking.

SUMMARY: The Department of Agriculture's (USDA) Grain Inspection, Packers, and Stockyards Administration (GIPSA) is reviewing the United States Standards and grading procedures for corn under the United States Grain Standards Act (USGSA). Since the standards were last revised, the use of corn for ethanol and the number of different varieties of corn has increased tremendously. To ensure that standards and official grading practices remain relevant, GIPSA invites interested parties to comment on whether the current corn standards and grading procedures need to be changed.

DATES: Comments must be received on or before December 16, 2010.

ADDRESSES: You may submit your written or electronic comments on this notice to:

• Mail: Tess Butler, GIPSA, USDA, 1400 Independence Avenue, SW., Room 1643-S, Washington, DC 20250-3604.

• E-Mail comments to comments.gipsa@usda.gov.

• Fax: (202) 690-2173.

• Internet: Go to http://www.regulations.gov and follow the on-line instruction for submitting comments.

All comments will become a matter of public record and should be identified as “United States Standards for Corn Notice Comments,” making reference to the date and page number of this issue of the Federal Register. Comments will be available for public inspection at http://www.regulations.gov and in the above office during regular business hours (7 CFR 1.27(b)). Please call the GIPSA Management Support Staff at (202) 720-7486 to make an appointment to read comments received.

FOR FURTHER INFORMATION CONTACT: Ross Heiman at GIPSA, USDA, Beacon Facility, Stop 1404, P.O. Box 419205, Kansas City, MO 64131-6205; Telephone (816) 823-2580; Fax Number (816) 823-4644; e-mail Ross.D.Heiman@usda.gov.

SUPPLEMENTARY INFORMATION:

Executive Order 12866

This rule has been determined to be exempt for the purposes of Executive Order 12866, and therefore has not been reviewed by the Office of Management and Budget.

Under the authority of the USGSA (7 U.S.C. 76), GIPSA establishes standards for corn and other grains regarding kind, class, quality and condition. The corn standards were established by USDA effective December 1, 1916. Standards specific to corn appear in the USGSA regulations at 7 CFR 810.401-810.405 and were last revised in 1996 (60 FR 61194). The 1996 revisions changed the reporting requirements for test weight to the nearest tenth of a pound, eliminated the count limit on stones for U.S. Sample Grade, and reduced the U.S. Sample Grade Aggregate Weight Tolerance for Stones from more than 0.2 percent by weight to more than 0.1 percent by weight. Stress crack analysis was also offered as official criteria.

The standards facilitate corn marketing and define U.S. corn quality in the domestic and global marketplace. They define commonly used industry terms; contain basic principles governing the application of standards such as the type of sample used for a particular quality analysis; specify grades and grade requirements; and specify special grades and special grade requirements, such as flint corn and waxy corn. Official procedures for determining grading factors are provided in GIPSA's Grain Inspection Handbook, Book II, Chapter 4, “Corn,” which also includes standardized procedures for additional quality attributes not used to determine grade, such as stress crack analysis. Together, the grading standards and procedures allow buyers and sellers to communicate quality requirements, compare corn quality using equivalent forms of measurement, and assist in price discovery. To learn more about corn standardization and quality, visit the GIPSA Web site at http://www.gipsa.usda.gov.

GIPSA's grading and inspection services are provided through a network of federal, state, and private laboratories that conduct tests to determine the quality and condition of corn and other commodities. The tests used to measure grain quality are conducted in accordance with applicable standards using approved methodologies and can be applied at any point in the marketing chain. These tests yield rapid, reliable, and consistent results. In addition, GIPSA-issued certificates describing the quality and condition of graded corn are accepted as prima facie evidence in all Federal courts (7 U.S.C. 79(d)). U.S. corn standards and the affiliated grading and testing services offered by GIPSA verify that a seller's corn meets specified requirements, and ensure that customers received the quality of corn they purchased.

In order for U.S. standards and grading procedures for corn to remain relevant, GIPSA is issuing this advance notice of proposed rulemaking to invite interested parties to submit comments, ideas, and suggestions on all aspects of the U.S. corn standards and grading procedures.

Authority: 7 U.S.C. 71-87k.

J. Dudley Butler,
Administrator, Grain Inspection, Packers and Stockyards Administration.

[FR Doc. 2010-23190 Filed 9-16-10; 8:45 am]

BILLING CODE P